DEPARTMENT OF TRANSPORTATION

Federal Motor Carrier Safety Administration

[Docket No. FMCSA-2001-11426]

Qualification of Drivers; Exemption Applications; Vision

AGENCY: Federal Motor Carrier Safety Administration (FMCSA), DOT.

ACTION: Notice of applications for exemption from the vision standard; request for comments.

SUMMARY: This notice announces FMCSA's receipt of applications from 36 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before April 8, 2002.

ADDRESSES: You can mail or deliver comments to the U.S. Department of Transportation, Dockets Management Facility, Room PL-401, 400 Seventh Street, SW., Washington, DC 20590-0001. You can also submit comments as well as see the submissions of other commenters at http://dms.dot.gov. Please include the docket number that appears in the heading of this document. You can examine and copy this document and all comments received at the same Internet address or at the Dockets Management Facility from 9 a.m. to 5 p.m., e.t., Monday through Friday, except Federal holidays. If you want to know that we received your comments, please include a self-addressed, stamped postcard or include a copy of the acknowledgement page that appears after you submit comments electronically.

FOR FURTHER INFORMATION CONTACT: For information about the vision exemptions in this notice, Ms. Sandra Zywokarte, Office of Bus and Truck Standards and Operations, (202) 366-2987; for information about legal issues related to this notice, Mr. Joseph Solomey, Office of the Chief Counsel, (202) 366-1374, FMCSA, Department of Transportation, 400 Seventh Street, SW., Washington, DC 20590. Office hours are from 7:45 a.m. to 4:15 p.m., e.t., Monday through Friday, except Federal holidays.

SUPPLEMENTARY INFORMATION:

Electronic Access and Filing

You may see all the comments online through the Document Management System (DMS) at: http://dmses.dot.gov/submit.

Background

Thirty-six individuals have requested an exemption from the vision requirement in 49 CFR 391.41(b)(10), which applies to drivers of CMVs in interstate commerce. Under 49 U.S.C. 31315 and 31136(e), FMCSA may grant an exemption for a 2-year period if it finds “such exemption would likely achieve a level of safety that is equivalent to, or greater than, the level that would be achieved absent such exemption.” The statute also allows the agency to renew exemptions at the end of the 2-year period. Accordingly, the agency will evaluate the qualifications of each applicant to determine whether granting the exemptions will achieve the required level of safety.

Qualifications of Applicants

1. Louis N. Adams

Mr. Adams, age 43, has had poor vision in his left eye since the 1980s due to corneal disease. His uncorrected visual acuity is 20/15 in the right eye and hand motion only in the left eye. An ophthalmologist who examined him in 2001 certified, “In my professional medical opinion, I believe Mr. Louis Adams has sufficient vision to continue in his profession as a driver of commercial vehicles.” Mr. Adams reported that he has driven straight trucks for 5 years, accumulating 120,000 miles, tractor-trailer combination vehicles for 18 years, accumulating 864,000 miles, and buses for 4 years, accumulating 48,000 miles. He holds a Class A CDL from North Carolina, and his driving record for the last 3 years shows no accidents or convictions for moving violations in a CMV.

2. Guy M. Alloway

Mr. Alloway, 53, was born without a right eye. His unaided visual acuity is 20/20 in the left eye. An optometrist who examined him in 2001 certified, “It is my opinion that Guy Alloway has sufficient vision to perform all driving tasks needed to operate a commercial vehicle.” Mr. Alloway submitted that he has operated straight trucks for 5 years, accumulating 125,000 miles, and tractor-trailer combinations for 25 years, accumulating 3.1 million miles. He holds a Class A CDL from Oregon, and his driving record shows he has had no accidents or convictions for traffic violations in a CMV for the last 3 years.

3. Lyle H. Banser

Mr. Banser, 44, had a corneal transplant in his left eye in 1975. His visual acuity in the right eye is 20/20 without correction and in the left, 20/400, not correctable. An ophthalmologist examined him in 2001 and stated, “I do believe that Mr. Banser would have the visual acuity sufficient to perform his driving tasks as required to operate a commercial vehicle.” Mr. Banser reported he has 28 years' and 560,000 miles' experience driving straight trucks, and 27 years' and 27,000 miles' experience driving tractor-trailer combinations. He holds a Class ABCDM CDL from Wisconsin, and his driving record for the last 3 years shows no accidents or convictions for moving violations in a CMV.

4. Paul R. Barron

Mr. Barron, 44, has amblyopia in his left eye. His best-corrected vision in the right eye is 20/20 and in the left, finger counting. An optometrist examined him in 2001 and certified, “In my medical opinion, Paul Ray Barron has sufficient vision to perform the driving tasks required to operate a commercial vehicle.” Mr. Barron submitted that he has driven tractor-trailer combinations for 6 years, accumulating 270,000 miles. He holds a Class A CDL from Missouri, and has no accidents or convictions for moving violations in a CMV on his driving record for the last 3 years.

5. Lloyd J. Botsford

Mr. Botsford, 48, has amblyopia in his left eye. His visual acuity in the right eye is 20/15 and in the left 20/200. An optometrist examined him in 2001 and affirmed, “It is my opinion that Mr. Botsford should be able to adequately and safely drive a commercial vehicle. His condition is such that from early days he has learned to compensate for the reduced visual acuity in his left eye.” In his application, Mr. Botsford stated that he has 8 years' and 740,000 miles' experience operating tractor-trailer combinations. He holds a Class A CDL from Missouri, and there are no accidents or convictions for moving violations in a CMV on his record for the last 3 years.

6. Joseph E. Buck, Sr.

Mr. Buck, 60, lost his right eye due to trauma in 1974. He has 20/20 uncorrected visual acuity in his left eye. He was examined in 2001 and his optometrist stated, “It is my medical opinion that Joe has sufficient vision to operate a commercial vehicle.” Mr. Buck submitted that he has driven straight trucks for 25 years, accumulating 1.5 million miles, and tractor-trailer combinations for 3 years, accumulating 300,000 miles. He holds a North Carolina Class A CDL. During the last 3 years he had one accident and one conviction for a moving violation—Speeding—in a CMV. The accident occurred when the mirror of the vehicle he was driving collided with the mirror of an oncoming vehicle. The investigating police officer was not able to determine fault. The speeding violation occurred on a separate occasion, when he exceeded the speed limit by 9 mph.

7. Ronald M. Calvin

Mr. Calvin, 49, has decreased vision in his left eye due to retinopathy of prematurity. His best-corrected vision is 20/20 in the right eye and 20/600 in the left. His optometrist examined him in 2001 and certified, “In my opinion, Mr. Calvin has sufficient vision to perform driving tasks required to operate a commercial vehicle.” In his application, Mr. Calvin indicated he has driven straight trucks for 21 years, accumulating 1.0 million miles, and tractor-trailer combinations for 17 years, accumulating 1.2 million miles. He holds a Class A CDL from California, and his driving record for the past 3 years shows no accidents or convictions for traffic violations in a CMV.

8. Rusbel P. Contreras

Mr. Contreras, 33, has a small central scotoma in his left eye due to congenital toxoplasmosis. His best-corrected vision is 20/20 in the right eye and 20/400 in the left. An ophthalmologist examined him in 2001 and stated, “My opinion is that he has sufficient vision to perform the driving tasks of a commercial vehicle.” Mr. Contreras, who holds a Class A CDL from Colorado, reported that he has been driving tractor-trailer combinations for 6 years, accumulating 600,000 miles. His driving record shows he has had no accidents and one conviction for a traffic violation—Violation of Red Light Signal—in a CMV during the last 3 years.

9. Timothy J. Droeger

Mr. Droeger, 33, has amblyopia in his left eye. His best-corrected vision is 20/20 in the right eye and light perception in the left. An optometrist examined him in 2001 and stated, “Mr. Tim Droeger shows sufficient visual acuity and sufficient peripheral vision to operate in his capacity as a truck driver.” Mr. Droeger reported he has driven tractor-trailer combinations for 14 years, accumulating 1.6 million miles. He holds a Minnesota Class A CDL. He has had no accidents and one conviction for a moving violation—Speeding—in a CMV for the past 3 years, according to his driving record. He exceeded the speed limit by 13 mph.

10. Robert A. Fogg

Mr. Fogg, 50, has amblyopia of his left eye. His best-corrected vision is 20/20 in the right eye and 20/200 in the left. Following an examination in 2001, his optometrist stated, “In my professional medical opinion Mr. Robert A. Fogg can drive commercial vehicles safely.” Mr. Fogg reported that he has 10 years' experience operating straight trucks, accumulating 650,000 miles, and 7 years' experience operating tractor-trailer combinations, accumulating 770,000 miles. He holds a Class A CDL from North Carolina, and there are no accidents or convictions for moving violations in a CMV on his record for the last 3 years.

11. Paul D. Gaither

Mr. Gaither, 50, has a congenital coloboma of the left eye. His visual acuity is 20/15 in the right eye and 20/400 in the left. An optometrist examined him in 2001 and stated, “I have no doubt in Paul's ability to drive a commercial vehicle. His developmental visual problems should not interfere with his driving performance.” In his application, Mr. Gaither indicated he has driven straight trucks for 33 years, accumulating 330,000 miles, and tractor-trailer combinations for 8 years, accumulating 148,000 miles. He holds a Class A CDL from Indiana, and his driving record shows no accidents or convictions for moving violations in a CMV during the last 3 years.

12. David L. Grajiola

Mr. Grajiola, 53, has a congenital coloboma of the right eye. His best-corrected vision is 20/400 in the right eye and 20/20 in the left. Following an examination in 2001, his optometrist affirmed, “In my professional opinion, David Grajiola has sufficient vision to perform the driving tasks required to operate a commercial vehicle.” Mr. Grajiola holds a Class A CDL from California and reported that he has driven straight trucks for 8 years, accumulating 480,000 miles, and tractor-trailer combinations for 25 years, accumulating 3.6 million miles. His driving record shows no accidents and two convictions for moving violations—Speeding—in a CMV for the past 3 years. He exceeded the speed limit by 15 mph and 11 mph in two separate instances.

13. David L. Gregory

Mr. Gregory, 38, has a prosthetic right eye due to an injury in 1994. His corrected visual acuity is 20/15 in the left eye. An optometrist examined him in 2001 and stated, “In my opinion, Mr. Gregory has sufficient vision to perform the driving tasks required to operate a commercial vehicle and should be granted a waiver for outside of Georgia.” According to Mr. Gregory's application, he has driven straight trucks for 2 years, accumulating 100,000 miles, tractor-trailer combination vehicles for 18 years, accumulating 900,000 miles, and buses for 1 year, accumulating 20,000 miles. He holds a Class A CDL from Georgia. In the last 3 years he has had no accidents and one conviction for a moving violation—Speeding—in a CMV, according to his driving record. He exceeded the speed limit by 22 mph.

14. Walter D. Hague, Jr.

Mr. Hague, 30, is blind in his left eye due to an infection when he was 9 years old. His right eye has best-corrected vision of 20/20. Following an examination in 2001, his ophthalmologist stated, “In my medical opinion I feel that he has sufficient vision to perform the driving tasks required to operate a commercial vehicle.” Mr. Hague reported that he has driven straight trucks for 14 years, accumulating 700,000 miles, and tractor-trailer combinations for 9 years, accumulating 540,000 miles. He holds a Class A CDL from Virginia. His driving record shows he has had no accidents and one conviction for a moving violation—Speeding—in a CMV over the last 3 years. He exceeded the speed limit by 9 mph.

15. Sammy K. Hines

Mr. Hines, 54, has amblyopia in his right eye. His best-corrected visual acuity is 20/200 in the right eye and 20/20 in the left. Following an examination in 2001, his optometrist certified, “Based on my examination and the results of Mr. Hines” Humphrey 120 point screening test, Mr. Hines has sufficient vision in both eyes to perform the driving tasks required to operate a commercial vehicle.” Mr. Hines submitted that he has driven straight trucks and tractor-trailer combinations for 12 years each, accumulating 60,000 miles in the former and 120,000 miles in the latter. He holds a Class A CDL from Texas. His driving record for the last 3 years shows no accidents or convictions for traffic violations in a CMV.

16. Jeffrey J. Hoffman

Mr. Hoffman, 44, has hand motion vision in his left eye due to congenital glaucoma. The visual acuity in his right eye is 20/25+, best corrected. An ophthalmologist examined him in 2001 and certified, “I do feel that Jeff should be able to sufficiently operate a commercial vehicle at this time.” Mr. Hoffman submitted that he has driven straight trucks for 5 years, accumulating 100,000 miles, and tractor-trailer combinations for 16 years, accumulating 1.2 million miles. He holds a Class A3 CDL from South Dakota, and his driving record for the past 3 years shows no accidents or convictions for moving violations in a CMV.

17. Marshall L. Hood

Mr. Hood, 51, has a macular scar in his right eye due to an eye infection in childhood. His uncorrected visual acuity is count fingers in the right eye and 20/20 in the left. His ophthalmologist examined him in 2001 and certified, “In my medical opinion, Mr. Hood has sufficient vision to perform the driving tasks required to operate a commercial vehicle.” In his application, Mr. Hood reported that he has driven straight trucks for 30 years, accumulating 1.5 million miles, and tractor-trailer combinations 3 years, accumulating 75,000 miles. He holds an Alabama Class DM driver's license, and there are no accidents or convictions for moving violations in a CMV on his driving record for the last 3 years.

18. Edward W. Hosier

Mr. Hosier, 51, has had decreased vision in his left eye due to histoplasmosis since 1991. His best-corrected vision is 20/20 in the right eye and 20/200− in the left. Following an examination in 2001, his optometrist certified, “In my medical opinion Mr. Hosier has sufficient vision to perform the driving tasks associated with operating a commercial vehicle.” Mr. Hosier reported that he has driven straight trucks and tractor-trailer combinations for 25 years, accumulating 437,000 miles and 1.0 million miles, respectively. He holds a Class A CDL from Missouri, and his driving record shows he has had no accidents or convictions for traffic violations in a CMV for the last 3 years.

19. Edmond L. Inge, Sr.

Mr. Inge, 65, lost his left eye in 1976 due to trauma. His visual acuity in the right eye is 20/20-. Following an examination in 2001, his optometrist commented, “Mr. Inge is visually capable of operating a commercial vehicle.” Mr. Inge indicated he has driven tractor-trailer combinations for 42 years and 3.3 million miles. He holds a Class A CDL from Virginia, and his driving record for the last 3 years shows no accidents or convictions for moving violations in a CMV.

20. James A. Johnson

Mr. Johnson, 56, has had ocular histoplasmosis with macular scarring in his left eye since 1996. His best-corrected visual acuity is 20/25 in the right eye and finger counting in the left. Following an examination in 2001, his ophthalmologist certified, “I feel Mr. Johnson is able to safely operate a commercial motor vehicle with this vision, as he has done so for the past several years.” Mr. Johnson reported he has operated straight trucks for 7 years, accumulating 770,000 miles. He holds a Class A CDL from Ohio, and his driving record for the last 3 years shows no accidents or convictions for moving violations in a CMV.

21. Charles F. Koble

Mr. Koble, 61, has amblyopia in his left eye. His best-corrected visual acuity is 20/20 in the right eye and 20/60 in the left. His ophthalmologist examined him in 2001 and certified, “My clinical impression is that Mr. Koble has sufficient vision to operate a commercial vehicle.” Mr. Koble submitted that he has driven tractor-trailer combinations for 22 years, accumulating 1.1 million miles. He holds a Class A CDL from Indiana, and there are no CMV accidents or convictions for moving violations on his record for the last 3 years.

22. Robert W. Lantis

Mr. Lantis, 30, lost his right eye due to trauma at age 5. The visual acuity of his left eye is 20/15 uncorrected. His ophthalmologist examined him in 2001 and certified, “If Mr. Lantis has been able to operate a commercial vehicle and perform the driving tasks required for his job from the time when he was hired, there should be no reason why he cannot continue performing the same or similar tasks since his visual acuity on the left is very good and unchanged.” Mr. Lantis reported that he has driven straight trucks for 8 years, accumulating 240,000 miles. He holds a Class B CDL from Montana, and his driving record for the last 3 years shows no accidents or convictions for moving violations in a CMV.

23. Lucio Leal

Mr. Leal, 58, has been blind in his left eye since birth due to injury. His corrected visual acuity in the right eye is 20/20-. An optometrist examined him in 2001 and affirmed, “Again in my opinion he has sufficient vision in glasses to operate a commercial vehicle.” Mr. Leal stated he has driven straight trucks for 37 years, accumulating 1.1 million miles, tractor-trailer combinations for 12 years, accumulating 600,000 miles, and buses for 14 years, accumulating 84,000 miles. He holds a Nebraska Class A CDL, and his driving record for the last 3 years shows no accidents or convictions for moving violations in a CMV.

24. Terry W. Lytle

Mr. Lytle, 43, has had a post-traumatic cataract in his left eye since preschool. His right eye has corrected vision of 20/20, and his left eye has light perception only. Following an examination in 2001, his optometrist certified, “The vision remains sufficient to perform the driving tasks required to operate a commercial vehicle.” According to his application, Mr. Lytle has operated straight trucks for 23 years and 391,000 miles. He holds a Class A CDL from Pennsylvania, and his driving record for the last 3 years shows no accidents or convictions for moving violations in a CMV.

25. Earl Ray Mark

Mr. Mark, 44, has amblyopia in his right eye. His best-corrected visual acuity is 20/70 in the right eye and 20/20 in the left. His optometrist examined him in 2001 and noted, “Patient Earl Mark in my opinion has sufficient vision to perform driving tasks to operate a commercial vehicle.” Mr. Mark submitted that he has driven straight trucks for 21 years, accumulating 840,000 miles, and tractor-trailer combinations for 20 years, accumulating 1.0 million miles. He holds a Class AM CDL from Illinois, and his driving record shows he has had no accidents or convictions for moving violations in a CMV in the last 3 years.

26. James J. McCabe

Mr. McCabe, 60, has amblyopia in his right eye. His best-corrected vision is 20/200 in the right eye and 20/25 in the left. An ophthalmologist examined him in 2001 and certified, “To a degree of medical certainty Mr. McCabe has sufficient vision to meet the exemption required to operate a commercial vehicle.” Mr. McCabe reported that he has operated straight trucks and tractor-trailer combinations for 40 years, accumulating 400,000 miles in the former and 3.6 million miles in the latter. He holds a Class A CDL from Massachusetts, and his driving record for the last 3 years shows he has had no accidents or convictions for moving violations in a CMV.

27. Richard W. Neyens

Mr. Neyens, 44, has been aphakic since 1978 due to removal of a traumatic cataract from his left eye. His uncorrected visual acuity is 20/20 in the right eye and count fingers at 3 feet in the left. His optometrist examined him in 2001 and stated, “We have attempted several contact lens fittings with Mr. Neyens and though he has the potential to see 20/30 vision with the contact lens, he constantly reports double vision that is uncorrectable with the addition of prism. Mr. Neyens has been aphakic secondary to his trauma in the left eye since 1978 and has functioned quite well during this period of time. In light of these circumstances, it is my opinion that Mr. Neyens is and has been a safer driver without a contact lens or aphakic correction in his left eye than he would have been with an aphakic correction. I would recommend that he maintain his current monocular status with his uncorrected vision of 20/20 in the right eye and be granted a waiver from the Federal Vision Standard.” Mr. Neyens stated he has driven straight trucks for 3 years, accumulating 150,000 miles, and tractor-trailer combination vehicles for 19 years, accumulating 1.9 million miles. He holds a Washington State Class A CDL. He has no accidents and one conviction for a moving violation—Speeding—on his driving record for the last 3 years. He exceeded the speed limit by 10 mph.

28. Anthony G. Parrish

Mr. Parrish, 50, has a congenital optic nerve defect in his left eye. His best-corrected visual acuities are 20/20 in the right eye and 20/200 in the left. An ophthalmologist examined him in 2001 and certified, “Under binocular conditions, the patient has essentially normal visual function, since the field defect on the left is able to be ‘filled in’ by the good eye. Therefore, it is my opinion that this patient is able to safely operate a commercial vehicle.” Mr. Parrish submitted that he has driven straight trucks 7 years, accumulating 450,000 miles, and tractor-trailer combinations 17 years, accumulating 1.1 million miles. He holds a Class AM CDL from Alabama, and his driving record for the last 3 years shows he has had one accident and no convictions for moving violations in a CMV. According to the police report, Mr. Parrish had pulled his mechanically disabled vehicle into the emergency lane, when another vehicle drifted off the roadway behind him, striking the guardrail, then the vehicle Mr. Parrish was operating. Mr. Parrish was not charged in the accident.

29. Bill L. Pearcy

Mr. Pearcy, 48, has amblyopia of his left eye. His best-corrected visual acuities are 20/20 in the right eye and 20/200 in the left. As the result of an examination in 2001 his optometrist concluded, “He has no apparent eye pathology and has no visual field restriction in either eye. His amblyopia should not affect his ability to drive a commercial vehicle.” Mr. Pearcy reported that he has 8 years and 576,000 miles of experience operating straight trucks, and 3 years and 273,000 miles of experience operating tractor-trailer combinations. He holds a Class A CDL from Oregon, and there are no accidents or convictions for moving violations in a CMV on his driving record for the last 3 years.

30. Robert H. Rogers

Mr. Rogers, 45, has been blind in his left eye since the age of 3 due to trauma. The unaided visual acuity in his right eye is 20/20. Following an examination in 2001, his ophthalmologist stated, “Mr. Rogers” vision is sufficient to perform the driving tasks required to operate a commercial vehicle.” Mr. Rogers reported that he has driven straight trucks for 2 years, accumulating 30,000 miles, and tractor-trailer combinations for 8 years, accumulating 1.0 million miles. He holds a Class A CDL from Mississippi, and his driving record for the last 3 years shows no accidents or convictions for moving violations in a CMV.

31. Bobby C. Spencer

Mr. Spencer, 60, has had a macular scar in his right eye since 1960. His best-corrected vision is 20/200 in the right eye and 20/20 in the left. His optometrist examined him in 2001 and certified, “Mr. Spencer has sufficient vision for driving a commercial vehicle.” Mr. Spencer reported that he has driven tractor-trailer combinations for 15 years, accumulating 342,000 miles. He holds a Tennessee Class A CDL, and in the last 3 years he has had no accidents or convictions for moving violations in a CMV.

32. Mark J. Stevwing

Mr. Stevwing, 38, has amblyopia of the left eye. His uncorrected visual acuity is 20/20 in the right eye and 20/70 in the left. An optometrist examined him in 2001 and stated, “It is my opinion that Mark has sufficient vision to perform the driving tasks required to operate a commercial vehicle.” Mr. Stevwing reported that he has 14 years of experience driving straight trucks, totaling 364,000 miles. He holds a Pennsylvania Class B CDL and has had no accidents or moving violations in a CMV for the past 3 years.

33. Clarence C. Trump, Jr.

Mr. Trump, 74, has amblyopia in his left eye. His best-corrected visual acuity is 20/40+3 in his right eye and 20/200-1 in his left. His ophthalmologist examined him in 2001 and stated, “As the patient has been driving without significant incident over the past 50 years, in my opinion he has sufficient vision to perform the driving tasks required to operate a commercial motor vehicle.” Mr. Trump submitted that he has driven straight trucks and tractor-trailer combinations for 56 years, accumulating 448,000 miles in the former and 112,000 miles in the latter. He holds a Class AM CDL from Pennsylvania. His driving record shows no accidents or convictions for moving violations in a CMV for the last 3 years.

34. Dennis R. Ward

Mr. Ward, 54, has amblyopia in his right eye. He has visual acuity of 20/300 in the right eye and 20/20 in the left. Following an examination in 2001, his optometrist stated, “In my professional opinion, Mr. Ward has more than sufficient vision to perform the driving tasks required to operate a commercial vehicle.” According to Mr. Ward's application, he has driven straight trucks for 35 years, accumulating 248,000 miles. He holds a Class C driver's license from Nebraska, and his driving record shows no accidents or convictions for moving violations in a CMV during the last 3 years.

35. Frankie A. Wilborn

Mr. Wilborn, 45, has amblyopia in his left eye. His best-corrected visual acuity is 20/20 in the right eye and 20/400 in the left. His optometrist examined him in 2001 and stated, “Considering the 120 Point Humphrey Visual Field testing shows good peripheral vision, I believe and certify in my medical opinion that Mr. Wilborn with current 20/20 vision with both eyes is quite capable of continuing his current profession as a commercial truck driver.” Mr. Wilborn reported that he has driven tractor-trailer combinations for 6 years, accumulating 562,000 miles. He holds a Class AM CDL from Georgia. He has had no accidents and one conviction for a moving violation—Improper Turning—in a CMV during the past 3 years.

36. Jeffrey L. Wuollett

Mr. Wuollett, 51, has amblyopia in his left eye. His best-corrected vision in the right eye is 20/20 and in the left eye 20/200. Following a 2001 examination, his optometrist stated, “Mr. Wuollett is more than capable of driving and operating a commercial vehicle with his current visual status.” In his application, Mr. Wuollett reported that he has driven straight trucks for 18 years, accumulating 774,000 miles. He holds a Minnesota Class D driver's license, and has had no accidents or convictions for moving violations in a CMV for the past 3 years.

Request for Comments

In accordance with 49 U.S.C. 31315 and 31136(e), FMCSA is requesting public comment from all interested persons on the exemption petitions and the matters discussed in this notice. All comments received before the close of business on the closing date indicated above will be considered and will be available for examination in the docket room at the above address.

Issued on: March 1, 2002.
Brian M. McLaughlin,
Associate Administrator for Policy and Program Development.

[FR Doc. 02-5361 Filed 3-6-02; 8:45 am]

BILLING CODE 4910-EX-P